FEDERAL MEDIATION AND CONCILIATION SERVICE

Notice for a Collaboration Between Universities and the FMCS

AGENCY: Office of the Director (OD), Federal Mediation and Conciliation Service (FMCS).

ACTION: 30-Day notice for comments.

SUMMARY: As a policy initiative, FMCS is collaborating with college and universities to exchange alternative dispute resolution research and techniques.

DATES: August 7, 2020-September 7, 2020.

ADDRESSES: To access and review all the documents related to the information collection listed in this notice, please use http://www.regulations.gov by searching the Docket ID number ED-2016-ICCD-0042. Comments submitted in response to this notice should be submitted electronically through the Federal eRulemaking Portal at http://www.regulations.gov by selecting the Docket ID number or via email, personal delivery, or postal delivery. Comments can be sent by email to kbennett@fmcs.gov; the address for personal or postal delivery is Office of the General Counsel, FMCS, Floor 7, One Independence Square, 250 E St. SW, Washington, DC 20427. Please note that as of July 27, 2020, the FMCS office is not open for visitors and mail is not checked daily. Therefore, we encourage comments through the Portal or via email.

FOR FURTHER INFORMATION CONTACT: For specific questions related to this program, please contact Sarah Cudahy, 202-606-8090, scudahy@fmcs.gov.

SUPPLEMENTARY INFORMATION: In furtherance of FMCS's mission to develop and advocate the art, science, and practice of conflict resolution through the use of alternative dispute resolution (ADR), FMCS seeks to collaborate with undergraduate or graduate programs of accredited, nonprofit colleges and universities to exchange research and techniques in the field of ADR.

Specifics of Collaboration. FMCS intends to collaborate with colleges and universities through exchanging models of mediation, mediation techniques, and dispute and conflict management systems design. Exchanging training programs, guest lecturing, and partnering to design curricula to enhance ADR education are also goals of collaborations between FMCS and academic institutions. A list of participating academic institutions will be publicly available on the FMCS website, www.fmcs.gov.

Dated: July 27, 2020.
Sarah Cudahy,
General Counsel.

[FR Doc. 2020-16523 Filed 7-29-20; 8:45 am]

BILLING CODE 6732-01-P